DEPARTMENT OF THE INTERIOR

National Park Service

[NPS-WASO-NAGPRA-NPS0031351; PPWOCRADN0-PCU00RP14.R50000]

Notice of Intent To Repatriate Cultural Items: Los Angeles County Museum of Art, Los Angeles, CA

AGENCY: National Park Service, Interior.

ACTION: Notice.

SUMMARY: The Los Angeles County Museum of Art (LACMA), in consultation with Indian Tribes or Native Hawaiian organizations listed in this notice, has determined that the cultural item listed in this notice meets the definition of sacred object and object of cultural patrimony. Lineal descendants or representatives of any Indian Tribe or Native Hawaiian organization not identified in this notice that wish to claim this cultural item should submit a written request to the Los Angeles County Museum of Art. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Los Angeles County Museum of Art at the address in this notice by February 22, 2021.

ADDRESSES: Jeffrey N. Blair, General Counsel and Assistant Secretary, Los Angeles County Museum of Art, 5905 Wilshire Boulevard, Los Angeles, CA 90036, telephone (323) 857-6048, email jblair@lacma.org.

SUPPLEMENTARY INFORMATION: Notice is here given in accordance with the Native American Graves Protection and Repatriation Act (NAGPRA), 25 U.S.C. 3005, of the intent to repatriate a cultural item under the control of the Los Angeles County Museum of Art, Los Angeles, CA, that meets the definition of sacred object and object of cultural patrimony under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

At an unknown date, one cultural item, a heraldic house screen, identified as Tlingit in the Los Angeles County Museum of Art's records, was removed from the Tlingit Thunderbird Clan House. This item was loaned to the Alaska State Museum by a Thunderbird House representative, where it was displayed between 1971-1987. Upon the lender's passing, his spouse consigned the screen to auction at Sotheby's New York in 1991, whereupon it was separated from the Central Council of the Tlingit & Haida Indian Tribes. In 1995, the item was sold at a Sotheby's auction to a private collector. In April 2017, funds were given to LACMA to purchase this cultural item from a private collector. The item was accessioned by LACMA on August 8, 2017.

Based on consultation with the Central Council of the Tlingit & Haida Indian Tribes, and archival research at the University of Washington and the Alaska State Museum, the Los Angeles County Museum of Art has determined that this house screen is an integral part of rituals and ceremonies performed by Tlingit traditional religious leaders of the Thunderbird Clan. The cultural item was identified by the auction house, academic experts in the study of Tlingit culture, and traditional Tlingit cultural leaders as belonging to the Central Council of the Tlingit & Haida Indian Tribes.

Determinations Made by the Los Angeles County Museum of Art

The Los Angeles County Museum of Art has determined that:

• Pursuant to 25 U.S.C. 3001(3)(C), the one cultural item described above is a specific ceremonial object needed by traditional Native American religious leaders for the practice of traditional Native American religions by their present-day adherents.

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the sacred object and object of cultural patrimony and the Central Council of the Tlingit & Haida Indian Tribes.

Additional Requesters and Disposition

Lineal descendants or representatives of any Indian Tribe or Native Hawaiian organization not identified in this notice that wish to claim this cultural item should submit a written request with information in support of the claim to Jeffrey N. Blair, General Counsel and Assistant Secretary, Los Angeles County Museum of Art, 5905 Wilshire Boulevard, Los Angeles, CA 90036, telephone (323) 857-6048, email jblair@lacma.org, by February 22, 2021. After that date, if no additional claimants have come forward, transfer of control of the sacred object and object of cultural patrimony to the Central Council of the Tlingit & Haida Indian Tribes may proceed.

The Los Angeles County Museum of Art is responsible for notifying the Central Council of the Tlingit & Haida Indian Tribes that this notice has been published.

Dated: January 6, 2021.
Melanie O'Brien,
Manager, National NAGPRA Program.

[FR Doc. 2021-01337 Filed 1-21-21; 8:45 am]

BILLING CODE 4312-52-P